DEPARTMENT OF COMMERCE

National Oceanic and Atmospheric Administration

[Docket No. 020122018-2018-01; I.D. 111601B]

National Artificial Reef Plan Revision

AGENCY: National Marine Fisheries Service (NMFS), National Oceanic and Atmospheric Administration (NOAA), Commerce.

ACTION: Notice of availability; request for comments.

SUMMARY: The National Artificial Reef Plan of 1985 (National Plan) was originally published as NOAA Technical Memorandum NMFS OF-6 in November 1985. NMFS requests comments on proposed revisions to the National Plan.

DATES: Comments must be received no later than May 23, 2002.

ADDRESSES: Comments on the proposed revisions should be submitted to William L. Price, National Coordinator for Marine Recreational Fisheries Programs, 1315 East West Highway, Suite 14752, Silver Spring, MD 20910. Comments may also be submitted via Fax. Comments submitted via electronic mail will not be accepted. Requests for hard copies of proposed revisions to the National Artificial Reef Plan should be addressed to C. Michael Bailey, NOAA-Fisheries, Suite 134, 9721 Executive Center Drive North, St. Petersburg, FL, 33702.

FOR FURTHER INFORMATION CONTACT: William L. Price, (301) 713-9504; fax (301) 713-2384.

SUPPLEMENTARY INFORMATION: The National Plan of 1985 was developed by the Secretary of Commerce under direction of the National Fishing Enhancement Act of 1984 (Act). The National Plan, which was designed to be a dynamic working document that would be updated as new information became available, was originally published in November 1985 as NOAA Technical Memorandum NMFS OF-6.

The National Plan provided guidance on various aspects of artificial reef use, including types of construction materials and planning, siting, designing, and managing artificial reefs. The 1985 document was general in scope and provided a framework for regional, state, and local planners to develop more detailed, site-specific artificial reef plans sensitive to highly variable local needs and conditions. Since 1985, extensive research has been conducted shedding new light on issues pertaining to artificial reefs. Accordingly, the NMFS has revised the National Plan. The revision follows the format of the 1985 Plan incorporating changes to original text in key areas. The most significant deviations occur in the section dealing with materials. The revision also addresses several critical issues of national importance which provide the focus for much of the debate regarding man-made reef activities. These include the permit programs, materials criteria, liability, research and evaluation, site location, and the roles of affected federal agencies and the regional fisheries management councils. In addition, one of the main areas of emphasis was to include language to reiterate the importance of man-made structures as a fisheries management tool. New language in the National Plan is consistent with the guidelines and recommendations of the Atlantic, Gulf, and Pacific States Marine Fisheries Commissions and representatives of state artificial reef programs relative to artificial reef development.

Dated: February 14, 2002.
Rebecca Lent,
Deputy Assistant Administrator for Regulatory Programs, National Marine Fisheries Service.

[FR Doc. 02-4275 Filed 2-21-02; 8:45 am]

BILLING CODE 3510-22-S